FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States.

Unless otherwise noted, comments regarding each of these applications must be received at the Reserve Bank indicated or the offices of the Board of Governors not later than March 22, 2011.

A. Federal Reserve Bank of Chicago (Colette A. Fried, Assistant Vice President) 230 South LaSalle Street, Chicago, Illinois 60690-1414:

1. Bank of Montreal, Montreal, Canada, Harris Financial Corp., Wilmington, Delaware, Harris Bankcorp, Inc., Chicago, Illinois; and Mike Merger Sub, LLC, Chicago, Illinois; to acquire 100 percent of the voting shares of Marshall & Ilsley Corporation, Milwaukee, Wisconsin, and thereby indirectly acquire voting shares of M&I Marshall & Ilsley Bank, Milwaukee, Wisconsin, and M&I Bank of Mayville, Mayville, Wisconsin. In connection with the applications, Applicants also have applied to acquire M&I Bank N.A., upon the conversion of M&I Bank FSB, Las Vegas, Nevada, from a federal savings bank to a national association. In connection with the applications, Mike Merger Sub, LLC, Chicago, Illinois, has also applied to become a bank holding company by acquiring 100 percent of the voting shares of Marshall & Ilsley Corporation, Milwaukee, Wisconsin. Applicants also have filed to exercise an option to acquire up to 19.7 percent of the outstanding stock of Marshall & Ilsley Corporation.

In connection with this application, Applicants also have applied to acquire M&I Investment Management Corp., Milwaukee, Wisconsin, and thereby engage in financial and investment advisory services and securities brokerage, pursuant to sections 225.28(b)(6) and (b)(7) of Regulation Y; TCH MI Holding Company, Inc., Milwaukee, Wisconsin, and thereby engage in financial and investment advisory services, pursuant to section 225.28(b)(6) of Regulation Y; Taplin, Canida & Habacht, LLC, Miami, Florida, and thereby engage in financial and investment advisory services, pursuant to section 225.28(b)(6) of Regulation Y; Marshall & Ilsley Trust Company National Association, Milwaukee, Wisconsin, and thereby engage in trust company functions, pursuant to section 225.28(b)(5) of Regulation Y; North Star Trust Company, Chicago, Illinois, and thereby engage in trust company functions, pursuant to section 225.28(b)(5) of Regulation Y; North Star Deferred Exchange Corp., Chicago, Illinois, and thereby engage in real estate settlement servicing; trust company functions; tax planning and tax preparation services, pursuant to sections 225.28(b)(2), (b)(5) and (b)(6) of Regulation Y; M&I Exchange Services LLC, Milwaukee, Wisconsin, and thereby engage in real estate settlement servicing; trust company functions; tax planning and tax preparation services, pursuant to sections 225.28(b)(2), (b)(5), and (b)(6) of Regulation Y; North Star Realty Services, LLC, Chicago, Illinois, and thereby engage in real estate settlement servicing; trust company functions; tax planning and tax preparation services, pursuant to sections 225.28(b)(2), (b)(5), and (b)(6) of Regulation Y; M&I Community Development Corp., Milwaukee, Wisconsin, and thereby engage in community development activities, pursuant to section 225.28(b)(12) of Regulation Y; M&I Bank FSB, Las Vegas, Nevada, and thereby operate a savings association pursuant to section 225.28(b)(4) of Regulation Y; M&I Zion Holdings, Inc., Las Vegas, Nevada, and thereby engage in extending credit and servicing loans, pursuant to section 225.28(b)(1) of Regulation Y; and M&I Zion Investment II Corporation, Las Vegas, Nevada, and thereby engage in extending credit and servicing loans, pursuant to section 225.28(b)(1) of Regulation Y.

Board of Governors of the Federal Reserve System, February 18, 2011.
Jennifer J. Johnson,
Secretary of the Board.

[FR Doc. 2011-4183 Filed 2-24-11; 8:45 am]

BILLING CODE 6210-01-P